DEPARTMENT OF ENERGY

Federal Energy Regulatory Commission

[Docket No. RP03-281-000]

Columbia Gas Transmission Corporation; Notice of Proposed Changes in FERC Gas Tariff

March 5, 2003.

Take notice that on February 28, 2003, Columbia Gas Transmission Corporation (Columbia), tendered for filing as part of its FERC Gas Tariff, Second Revised Volume No. 1 (Tariff), the following revised tariff sheets with a proposed effective date of April 1, 2003:

Sixty-third Revised Sheet No. 25

Sixty-third Revised Sheet No. 26

Sixty-third Revised Sheet No. 27

Fifty-fourth Revised Sheet No. 28

Eighteenth Revised Sheet No. 31

Columbia states that these revised tariff sheets are filed pursuant to section 45, “Electric Power Costs Adjustment (EPCA),” of the General Terms and Conditions (GTC) of Columbia's FERC Gas Tariff, Second Revised Volume No. 1.

Columbia states that these revised tariff sheets are being filed to reflect adjustments to Columbia's current costs for electric power for the 12-month period beginning April 1, 2003.

Columbia states that copies of its filing are available for inspection at its offices at 12801 Fair Lakes Parkway, Fairfax, Virginia; and 10 G Street NE., Suite 580, Washington, DC; and have been mailed to all firm customers, interruptible customers, and affected state commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5822 Filed 3-11-03; 8:45 am]

BILLING CODE 6717-01-P